DEPARTMENT OF HEALTH AND HUMAN SERVICES

Centers for Disease Control and Prevention

Board of Scientific Counselors, National Center for Injury Prevention and Control (BSC, NCIPC)

AGENCY: Centers for Disease Control and Prevention (CDC), Department of Health and Human Services (HHS).

ACTION: Notice of meeting.

SUMMARY: In accordance with the Federal Advisory Committee Act, the CDC announces the following meeting of the Board of Scientific Counselors, National Center for Injury Prevention and Control (BSC, NCIPC or Board). This meeting is closed to the public.

DATES: The meeting will be held on July 26, 2022, from 1:00 p.m. to 5:00 p.m., EDT (CLOSED).

ADDRESSES: Zoom Virtual Meeting

FOR FURTHER INFORMATION CONTACT: Arlene Greenspan, DrPH, MPH, PT, Associate Director for Science, NCIPC, CDC, 4770 Buford Highway NE, Mailstop S-1069, Atlanta, Georgia 30341; Telephone: (770) 488-1279; Email: ncipcbsc@cdc.gov.

SUPPLEMENTARY INFORMATION: The meeting referenced above will be closed to the public in accordance with provisions set forth in Section 552b(c)(4) and (6), Title 5 U.S.C., and the Determination of the Director, Strategic Business Initiatives Unit, Office of the Chief Operating Officer, CDC, pursuant to Public Law 92-463 (5 U.S.C. app. 2).

Purpose: The Board will: (1) conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury. The BSC, NCIPC makes recommendations regarding policies, strategies, objectives, and priorities; reviews progress toward injury prevention goals; and provides evidence in injury prevention-related research and programs. The Board also provides advice on the appropriate balance of intramural and extramural research, as well as the structure, progress, and performance of intramural programs. The Board provides guidance on extramural scientific program matters, including the: (1) review of extramural research concepts for funding opportunity announcements; (2) conduct of Secondary Peer Review of extramural research grants, cooperative agreements, and contract applications received in response to funding opportunity announcements as they relate to the Center's programmatic balance and mission; (3) submission of secondary review recommendations to the Center Director of applications to be considered for funding support; (4) review of research portfolios; and (5) review of program proposals.

Matters To Be Considered: The closed meeting will focus on the Secondary Peer Review of extramural research grant applications received in response to five (5) Notices of Funding Opportunities (NOFOs): RFA-CE-22-003—“Rigorously Evaluating Programs and Policies to Prevent Child Sexual Abuse (CSA) (U01)”; RFA-CE-22-005—“Research Grants for Preventing Violence and Violence Related Injury (R01)”; RFA-CE-22-006—“Research Grants to Evaluate the Effectiveness of Physical Therapy-based Exercises and Movements Used to Reduce Older Adults Falls(U01)”; RFA-CE-22-007—“Reduce Health Disparities and Improve Traumatic Brain Injury (TBI) Related Outcomes Through the Implementation of CDC's Pediatric Mild TBI Guideline”; and RFA-CE-22-008—“Using Data Linkage to Understand Suicide Attempts, Self-Harm and Unintentional Drowning Deaths (U01).” Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-14154 Filed 6-30-22; 8:45 am]

BILLING CODE 4163-18-P